DEPARTMENT OF COMMERCE

Foreign-Trade Zones Board

[S-35-2017]

Approval of Subzone 43B Expansion; Mead Johnson & Company, LLC; Zeeland, Michigan

On March 9, 2017, the Executive Secretary of the Foreign-Trade Zones (FTZ) Board docketed an application submitted by the City of Battle Creek, grantee of FTZ 43, requesting an expansion of Subzone 43B subject to the existing activation limit of FTZ 43, on behalf of Mead Johnson & Company, LLC, in Zeeland, Michigan.

The application was processed in accordance with the FTZ Act and Regulations, including notice in the Federal Register inviting public comment (82 FR 13578-13579, March 14, 2017). The FTZ staff examiner reviewed the application and determined that it meets the criteria for approval. Pursuant to the authority delegated to the FTZ Board's Executive Secretary (15 CFR Sec. 400.36(f)), the application to expand Subzone 43B was approved on May 4, 2017, subject to the FTZ Act and the Board's regulations, including Section 400.13, and further subject to FTZ 43's 2,000-acre activation limit.

Dated: June 8, 2017.
Andrew McGilvray,
Executive Secretary.

[FR Doc. 2017-12422 Filed 6-14-17; 8:45 am]

BILLING CODE 3510-DS-P